NUCLEAR WASTE TECHNICAL REVIEW BOARD

Board Meeting

September 16-17, 2003—Amargosa Valley, Nevada: The U.S. Nuclear Waste Technical Review Board will meet to discuss U.S. Department of Energy (DOE) work related to the natural features of a spent nuclear fuel and high-level radioactive waste repository proposed for Yucca Mountain in Nevada. The DOE also will present updates on chlorine-36 studies, on performance confirmation, and on transportation activities.

Pursuant to its authority under section 5051 of Public Law 100-103, Nuclear Waste Policy Amendments Act of 1987, on Tuesday, September 16, and for a half day on Wednesday, September 17, 2003, the U.S. Nuclear Waste Technical Review Board (Board) will meet in Amargosa Valley, Nevada. Among other topics, the Board will discuss U.S. Department of Energy (DOE) work related to the natural features of a possible repository for the disposal of spent nuclear fuel and high-level radioactive waste. The DOE is preparing a license application to be submitted to the U.S. Nuclear Regulatory Commission for construction of such a repository at Yucca Mountain in Nevada. The meeting is open to the public, and several opportunities for public comment will be provided. The Board was created by Congress in the Nuclear Waste Policy Amendments Act of 1987 to evaluate the technical and scientific validity of activities undertaken by the Secretary of Energy related to managing the disposal of the nation's spent nuclear fuel and high-level radioactive waste.

The Board meeting will be held at the Longstreet Inn; HCR 70, Box 559; Amargosa Valley, Nevada. The telephone number is (775) 372-1777; the fax number is (775) 372-1280. The meeting will start at 8 a.m. on both days.

On Tuesday, the meeting will begin with a program update and project overview. These will be followed by a status report on progress in estimating the performance of the engineered components of the proposed repository and on efforts to reconcile various chlorine-36 studies. The agenda then will turn to several presentations relating to flow and transport in the unsaturated and saturated zones.

On Wednesday, a representative of the Nye County Board of Commissioners has been invited to present opening remarks. These will be followed by a status report on the DOE's performance confirmation plans and by updates on igneous issues and on DOE activities related to the transportation of spent nuclear fuel and high-level radioactive waste. The meeting will end around noon on Wednesday.

Opportunities for public comment will be provided before the lunch break and at the end of the session on Tuesday and at the end of the half-day session on Wednesday. In addition, interested members of the public are invited to join Board members for coffee from 7:15 a.m. to 7:55 a.m. on Wednesday, September 17, at the Longstreet Inn. Those wanting to speak during the public comment periods are encouraged to sign the “Public Comment Register” at the check-in table. A time limit may have to be set on individual remarks, but written comments of any length may be submitted for the record. If interested parties do not want to speak during the public comment session, they may submit questions in writing to the Board. If time permits, the questions will be addressed during the meeting.

A detailed agenda will be available approximately one week before the meeting. Copies of the agenda can be requested by telephone or obtained from the Board's Web site at www.nwtrb.gov. Beginning on October 18, 2003, transcripts of the meeting will be available on the Board's Web site, via e-mail, on computer disk, and on a library-loan basis in paper format from Davonya Barnes of the Board staff.

A block of rooms has been reserved at the Longstreet Inn. When making a reservation, please state that you are attending the Nuclear Waste Technical Review Board meeting. For more information, contact Karyn Severson; Director, External Affairs; 2300 Clarendon Boulevard, Suite 1300; Arlington, VA 22201-3367; (tel) 703-235-4473; (fax) 703-235-4495.

Dated: August 11, 2003.
William D. Barnard,
Executive Director, Nuclear Waste Technical Review Board.

[FR Doc. 03-20748 Filed 8-13-03; 8:45 am]

BILLING CODE 6820-AM-M